DEPARTMENT OF HEALTH AND HUMAN SERVICES

Centers for Medicare & Medicaid Services

[Document Identifier: CMS-10109]

Agency Information Collection Activities: Proposed Collection; Comment Request

AGENCY: Centers for Medicare & Medicaid Services, HHS.

In compliance with the requirement of section 3506(c)(2)(A) of the Paperwork Reduction Act of 1995, the Centers for Medicare & Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection.

Title of Information Collection: Hospital Reporting Initiative—Hospital Quality Measures.

Use: The purpose is to collect data to produce valid, reliable, comparable, and salient quality measures to provide a potent stimulus for clinicians and providers to improve the quality of care they provide. This reporting initiative in which hospitals may participate is a significant step toward a more informed public and a means to sustain health care quality improvement. The data is currently being collected from hospitals by CMS. The hospitals submitting data have volunteered to participate in public reporting. This effort places no additional data collection requirements or burdens on hospitals. Section 501(b) of the MMA offers monetary incentives for hospitals participating in reporting.

Form Number: CMS-10109.

OMB #: 0938-0918.

Frequency: Quarterly.

Affected Public: Business or other for-profit and Not-for-profit institutions.

Number of Respondents: 4,000.

Total Annual Responses: 16,000.

Total Annual Hours: 238,000.

To obtain copies of the supporting statement and any related forms for the proposed paperwork collections referenced above, access CMS's Web site address at http://www.cms.hhs.gov/regulations/pra/, or e-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Melissa Musotto, Room C5-14-03, 7500 Security Boulevard, Baltimore, Maryland 21244-1850.

Dated: August 6, 2004.
John P. Burke, III,
Paperwork Reduction Act Team Leader, Office of Strategic Operations and Strategic Affairs, Division of Regulations Development and Issuances.

[FR Doc. 04-18620 Filed 8-19-04; 8:45 am]

BILLING CODE 4120-03-P